DEPARTMENT OF THE INTERIOR

National Park Service

[NPS-NERO-CACO-35244; PPNECACOS0, PPMPSD1Z.YM0000]

Request for Nominations for the Cape Cod National Seashore Advisory Commission

AGENCY: National Park Service, Interior.

ACTION: Request for nominations.

SUMMARY: The National Park Service (NPS), U.S. Department of the Interior, is requesting nominations for qualified persons to serve as members of the Cape Cod National Seashore Advisory Commission (Commission).

DATES: Written nominations must be postmarked by April 5, 2023.

ADDRESSES: Nominations should be sent to Leslie Reynolds, Acting Superintendent, Cape Cod National Seashore, 99 Marconi Road, Wellfleet, Massachusetts 02667, or via email to CACO_Superintendent@nps.gov.

FOR FURTHER INFORMATION CONTACT: Leslie Reynolds, via telephone (508) 957-0700. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Cape Cod National Seashore was established June 1, 1966, in accordance with 16 U.S.C. 459b-2 et seq. Section 459b-7 established the Commission to consult with the Secretary of the Interior, or the Secretary's designee, with respect to matters relating to the development of the Cape Cod National Seashore, and with respect to carrying out the provisions of sections 4 and 5 of the Act establishing the Seashore.

The Commission is composed of 10 members appointed by the Secretary of the Interior for 2-year terms, as follows: (a) six members from recommendations made by the boards of selectmen of the towns of Chatham, Eastham, Orleans, Provincetown, Truro and Wellfleet, in the Commonwealth of Massachusetts, one member from the recommendations made by each such board; (b) one member from recommendations of the county commissioners of Barnstable County, Commonwealth of Massachusetts; (c) two members from recommendations of the Governor of the Commonwealth of Massachusetts; and (d) one member appointed at the discretion of the Secretary.

We are currently requesting nominations for the one member appointed at the discretion of the Secretary.

The individual selected to serve at the discretion of the Secretary will be appointed as a special Government Employees (SGE). Individuals selected from the other categories will be appointed as representative members. Please be aware that members selected to serve as SGEs will be required, prior to appointment, to file a Confidential Financial Disclosure Report in order to avoid involvement in real or apparent conflicts of interest. You may find a copy of the Confidential Financial Disclosure Report at the following website: SGEs and Financial Disclosure Reporting | U.S. Department of the Interior (doi.gov). Additionally, after appointment, members appointed as SGEs will be required to meet applicable financial disclosure and ethics training requirements. Please contact 202-208-7960 or DOI_Ethics@sol.doi.gov with any questions about the ethics requirements for members appointed as SGEs.

Nominations should be typed and should include a resume providing an adequate description of the nominee's qualifications, including information that would enable the Department of the Interior to make an informed decision regarding meeting the membership requirements of the Commission and permit the Department to contact a potential member. All documentation, including letters of recommendation, must be compiled and submitted in one complete package. All those interested in membership must follow the nomination process. Members may not appoint alternates.

Members of the Commission serve without compensation. However, while away from their homes or regular places of business in the performance of services for the Commission as approved by the NPS, members may be allowed travel expenses, including per diem in lieu of subsistence, in the same manner as persons employed intermittently in Government service are allowed such expenses under section 5703 of Title 5 of the United States Code.

Authority: 5 U.S.C. 10.

Alma Ripps,
Chief, Office of Policy.

[FR Doc. 2023-04539 Filed 3-3-23; 8:45 am]

BILLING CODE 4312-52-P